AGENCY FOR INTERNATIONAL DEVELOPMENT

Paperwork Reduction Act 60-Day Notice; Request for Comments

AGENCY: U.S. Agency for International Development (USAID).

ACTION: Notice and request for comments; announcement of Customer Service Survey.

SUMMARY: USAID's Performance Improvement Officer (PIO) will administer an annual, internal Customer Service Survey (CSS) and use staff feedback to improve customer service operations. USAID leadership uses CSS results to demonstrate their commitment to listening to customers, making data-informed decisions, and addressing customers' issues. In accordance with the Paperwork Reduction Act of 1995, USAID requests public comment on this collection from all interested individuals and organizations.

DATES: USAID intends to issue the survey in late winter/early spring 2023. Comments are due October 17, 2022.

ADDRESSES: Send all electronic comments to mastrong@usaid.gov. Include “Announcement of Customer Service Survey” in the subject line.

FOR FURTHER INFORMATION CONTACT: Maggie Strong, mastrong@usaid.gov, 202-921-5104.

SUPPLEMENTARY INFORMATION: The Customer Service Survey will be administered to USAID staff, including contractors. USAID staff of all hiring mechanisms have the opportunity to take the survey; participation is not mandatory. USAID uses data for internal decision-making and data will not be made public.

Margaret Emery Strong,
Senior Analyst, USAID.

[FR Doc. 2022-17633 Filed 8-16-22; 8:45 am]

BILLING CODE 6116-01-P